DEPARTMENT OF TRANSPORTATION

Pipeline and Hazardous Materials Safety Administration

[Docket No. PHMSA-2011-0075]

Pipeline Safety: Issuance of Draft Decision on Det Norske Veritas (USA), Inc.'s Petition for Approval of the Process Hazard Analysis Software Tool—Unified Dispersion Model

AGENCY: Pipeline and Hazardous Materials Safety Administration (PHMSA), DOT.

ACTION: Notice.

SUMMARY: This notice advises owners and operators of liquefied natural gas facilities and other interested parties that the Administrator has issued a Draft Decision on Det Norske Veritas (DNV) (USA), Inc.'s petition for approval of the Process Hazard Analysis Software Tool—Unified Dispersion Model (PHAST-UDM). The Draft Decision is available for public inspection at Docket No. PHMSA-2011-0075 at http://www.regulations.gov. Any comments received by August 11, 2011, will be considered before a Final Decision is issued. Late comments will be considered to the extent practicable.

DATES: Submit comments by August 11, 2011.

ADDRESSES: Comments should reference Docket No. PHMSA-2011-0075 and may be submitted in the following ways:

• E-Gov Web site: http://www.regulations.gov. This Web site allows the public to enter comments on any Federal Register notice issued by any agency. Follow the instructions for submitting comments.

• Fax: 1-202-493-2251.

• Mail: U.S. Department of Transportation, Docket Management Facility, M-30, Room W12-140, 1200 New Jersey Avenue, SE., Washington, DC 20590-0001.

• Hand Delivery: U.S. Department of Transportation, Docket Management Facility, West Building, Ground Floor, Room W12-140, 1200 New Jersey Avenue, SE., Washington, DC 20590-0001 between 9 a.m. and 5 p.m., Monday through Friday, except Federal holidays.

Instructions: Identify the docket number PHMSA-2011-0075 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or visit http://www.regulations.gov before submitting any such comments.

Docket: For access to the docket or to read background documents or comments go to http://www.regulations.gov at any time or to Room W12-140 on the ground level of the West Building, 1200 New Jersey Avenue, SE., Washington, DC, between 9 a.m. and 5 p.m., Monday through Friday, except Federal holidays. If you wish to receive confirmation of receipt of your written comments, please include a self-addressed, stamped postcard with the following statement: “Comments on PHMSA-2011-0075.” The Docket Clerk will date stamp the postcard prior to returning it to you via the U.S. mail. Please note that due to delays in the delivery of U.S. mail to Federal offices in Washington, DC, we recommend that persons consider an alternative method (Internet, fax, or professional delivery service) of submitting comments to the docket and ensuring their timely receipt at DOT.

Note: Comments are posted without changes or edits to http://www.regulations.gov, including any personal information provided. There is a privacy statement published on http://www.regulations.gov. Any comments received by August 11, 2011, will be considered before a Final Decision is issued. Late comments will be considered to the extent practicable.

FOR FURTHER INFORMATION CONTACT: Charles Helm by telephone at 405-954-7219 or by e-mail at Charles.Helm@dot.gov.

SUPPLEMENTARY INFORMATION:

I. Background

On October 25, 2010, DNV (USA), Inc., filed a petition for approval of the PHAST-UDM at 49 CFR 190.9 and 193.2059(a). Those regulations permit the Administrator to approve the use of alternative vapor gas dispersion models in siting liquefied natural gas facilities.

On July 12, 2011, the Administrator issued a Draft Decision proposing to approve DNV's petition. The Draft Decision is available for public inspection under PHMSA Docket No. 2011-0075 at http://www.regulations.gov.

Issued in Washington, DC, on July 12, 2011.
Jeffrey D. Wiese,
Associate Administrator for Pipeline Safety.

[FR Doc. 2011-18036 Filed 7-15-11; 8:45 am]

BILLING CODE 4910-60-P